DEPARTMENT OF DEFENSE

Department of the Navy

[Docket ID USN-2012-0005]

Privacy Act of 1974; System of Records

AGENCY: Department of the Navy, DoD.

ACTION: Notice To Add a System of Records.

SUMMARY: The Department of the Navy proposes to add a system of records in its inventory of record systems subject to the Privacy Act of 1974 (5 U.S.C. 552a), as amended.

DATES: This proposed action will be effective on June 1, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a(r)), as amended, have been published in the Federal Register and are available from the address in FOR FURTHER INFORMATION CONTACT. The proposed system report, as required by 5 U.S.C. 552a(r) of the Privacy Act of 1974, as amended, was submitted on April 20, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 27, 2012.
Aaron Siegel,
Alternate OSD Federal Register Liaison Officer, Department of Defense.

N12293-1

System name:

Human Resource Civilian Portfolio (HRCP).

System location:

Space and Naval Warfare Command, SPAWAR, 1325 10th Street SE., Bldg 196, Washington, DC 20374-7000.

Organizational elements of the Department of the Navy. Official mailing addresses are published in the Standard Navy Distribution List (SNDL) that is available as an appendix to the Navy's compilation of systems of records notices.

Categories of individuals covered by the system:

Civilian employees and job applicants for civilian appropriated/non-appropriated fund (NAF) positions in the Department of Navy (DON).

Categories of records in the system:

Name, Social Security Number (SSN), date of birth, home address, place of birth, citizenship, emergency contact, and security clearance; employee email address; employee phone numbers to include home, work, pager, fax and mobile; race and national origin; handicap code; and foreign language capability; projected suspense information for personnel actions; job applications and employee resumes; position authorization and control information; position descriptions and performance elements; internal assigned employee ID, Billet ID number, pay, benefits, and entitlements data; historical information on employees, including job experience, education, training, and training transaction data; performance plans, interims, appraisals, closeouts and ratings; professional accounting or other certifications or licenses; awards information and merit promotion information; separation and retirement data; and adverse and disciplinary action data.

Authority for maintenance of the system:

5 U.S.C. 301, Department Regulations; 5 U.S.C. Chapters 11, Office of Personnel Management; 13, Special Authority; 29, Commissions, Oaths and Records; 31, Authority for Employment; 33, Examination Selection, and Placement; 41, Training; 43, Performance Appraisal; 51, Classification; 53, Pay Rates and Systems; 55, Pay Administration; 61, Hours of Work; 63, Leave; 72, Antidiscrimination, Right to Petition Congress; 75, Adverse Actions; 83, Retirement; 99, Department of Defense National Security Personnel System; 5 U.S.C. 7201, Antidiscrimination Policy; 10 U.S.C. 136, Under Secretary of Defense for Personnel and Readiness; E.O. 9830, Amending the Civil Service Rules and Providing for Federal Personnel Administration, as amended; 29 CFR 1614.601, EEO Group Statistics; SECNAV Instruction 12250.6, Civilian Human Resources Management in the Department of the Navy; and E.O. 9397 (SSN), as amended.

Purpose(s):

To provide Human Resource information and system support for the DON civilian workforce worldwide to access and update their personal information, submit documents, and obtain personnel related information.

Routine uses of records maintained in the system, including categories of users and the purposes of such uses:

In addition to those disclosures generally permitted under 5 U.S.C. 552a(b) of the Privacy Act of 1974, these records contained therein may specifically be disclosed outside the DON as a routine use pursuant to 5 U.S.C. 552a(b)(3) as follows:

The DoD “Blanket Routine Uses” set forth at the beginning of Department of Navy's compilation of system of records notices apply to this system.

Policies and practices for storing, retrieving, accessing, retaining, and disposing of records in the system:

Storage:

Electronic storage media.

Retrievability:

Name, Social Security Number (SSN), internal assigned employee ID, and Billet ID number.

Safeguards:

Access to data is multi-tiered and based on a need to know, and is managed by a designated command representative knowledgeable in the area of that command's total workforce. The first tier of a user account is profile based, which limits the user to specific employee types and/or data. Users in a specific profile cannot view data outside of that profile's restrictions. The second tier further restricts access by use of permissions, which allow a user specific access to application functions. Physical access to terminals, terminal rooms, buildings and activities' grounds are controlled by locked terminals and rooms, guards, personnel screening and visitor registers. Password complexity, expiration, minimum length, and history, as well as use of profiles and permissions assists in assuring only appropriate personnel have access to data.

Retention and disposal:

Temporary records maintained at naval activities: With the exception of performance records, destroy upon separation or transfer of employee from DON or when 1 year old, whichever is sooner (if employee separates for military service or transfers to another agency as a result of a transfer of function, leave required temporary material in the folder).

Performance Ratings Records of Separating Employees: At time employee transfers or resigns, transfer performance ratings of record, close-out and summary ratings, along with the performance plan on which the most recent rating was based to the new Civilian Personnel Office (CPO) or National Personnel Records Center (NPRC).

System Manager(s) and Address:

Office of Civilian Human Resources (OCHR), 614 Sicard St SE., Suite 100, Washington Navy Yard, DC 20374-7000.

Notification Procedure:

Individuals seeking to determine whether this system of records contains information about themselves should address written inquiries to HRSD, Office of Civilian Human Resources, 614 Sicard St SE., Suite 100, Washington Navy Yard, DC 20374-7000.

The request should be signed and include full name, dates of service, Social Security Number (SSN), and a complete return mailing address.

The system manager may require an original signature or a notarized signature as a means of proving the identity of the individual requesting access to the records.

Record Access Procedures:

Individuals seeking to determine whether this system of records contains information about themselves should address written inquiries to HRSD, Office of Civilian Human Resources, 614 Sicard St SE., Suite 100, Washington Navy Yard, DC 20374-7000.

The request should be signed and include full name, dates of service, Social Security Number (SSN), and a complete return mailing address.

The system manager may require an original signature or a notarized signature as a means of proving the identity of the individual requesting access to the records.

Contesting Record Procedures:

The Navy's rules for accessing records, and for contesting contents and appealing initial agency determinations are published in Secretary of the Navy Instruction 5211.5E; 32 CFR part 701; or may be obtained from the system manager.

Record Source Categories:

Information is obtained primarily from official Department of Navy and Department of Defense programs of record; Defense Civilian Personnel Data System (DCPDS), Contractor Verification Systems (CVS)/Defense Enrollment Eligibility Recording System (DEERS), and from the individual and/or support staff.

Exemptions Claimed for the System:

None.

[FR Doc. 2012-10553 Filed 5-1-12; 8:45 am]

BILLING CODE 5001-06-P